DEPARTMENT OF TRANSPORTATION

Federal Aviation Administration

14 CFR Part 39

[Docket No. FAA-2019-0129; Product Identifier 2019-NE-01-AD]

RIN 2120-AA64

Airworthiness Directives; B/E Aerospace Fischer GmbH Common Seats

AGENCY: Federal Aviation Administration (FAA), DOT.

ACTION: Notice of proposed rulemaking (NPRM).

SUMMARY: We propose to adopt a new airworthiness directive (AD) for certain B/E Aerospace Fischer GmbH Common Seats 170/260 H160. This proposed AD was prompted by the discovery during testing that the energy absorber (EA) may not function as intended during emergency landing. This proposed AD would require removing and replacing the EA assemblies on the affected seats. We are proposing this AD to address the unsafe condition on these products.

DATES: We must receive comments on this proposed AD by May 24, 2019.

ADDRESSES: You may send comments, using the procedures found in 14 CFR 11.43 and 11.45, by any of the following methods:

• Federal eRulemaking Portal: Go to http://www.regulations.gov. Follow the instructions for submitting comments.

• Fax: 202 493 2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact B/E Aerospace Fischer GmbH, Müller-Armack-Str. 4, D-84034 Landshut, Germany; phone: +49 (0) 871 93248-0; fax:+49 (0) 871 93248-22; email: spares@fischer-seats.de. You may view this service information at the FAA, Engine and Propeller Standards Branch, 1200 District Avenue, Burlington, MA 01803. For information on the availability of this material at the FAA, call 781-238-7759.

Examining the AD Docket

You may examine the AD docket on the internet at http://www.regulations.gov by searching for and locating Docket No. FAA-2019-0129; or in person at Docket Operations between 9 a.m. and 5 p.m., Monday through Friday, except Federal holidays. The AD docket contains this NPRM, the mandatory continuing airworthiness information (MCAI), the regulatory evaluation, any comments received, and other information. The street address for Docket Operations (phone: 800-647-5527) is listed above. Comments will be available in the AD docket shortly after receipt.

FOR FURTHER INFORMATION CONTACT: Dorie Resnik, Aerospace Engineer, Boston ACO Branch, FAA, 1200 District Avenue, Burlington, MA 01803; phone: 781-238-7693; fax: 781- 238-7199; email: dorie.resnik@faa.gov.

SUPPLEMENTARY INFORMATION:

Comments Invited

We invite you to send any written relevant data, views, or arguments about this proposal. Send your comments to an address listed under the ADDRESSES section. Include “Docket No. FAA-2019-0129; Product Identifier 2019-NE-01-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

The European Union Aviation Safety Agency (EASA), which is the Technical Agent for the Member States of the European Community, has issued EASA AD 2018-0223, dated October 17, 2018 (referred to after this as “the MCAI”), to address the unsafe condition on these products. The MCAI states:

During dynamic tests of the seat energy absorber, a too long stroke was identified. Analysis indicated that, when the seat is used in low height adjustment during an emergency landing, the energy absorber may not function as intended.

This condition, if not corrected, could lead to impact on lower stop of the energy absorber stroke, possible resulting in injury to the seat occupant.

To address this unsafe condition, B/E Aerospace Fischer issued the SB, providing instructions to replace the seat energy absorber assembly and to re-identify the seat.

For the reason described above, this [EASA] AD requires modification of the affected seats and reidentification.

You may obtain further information by examining the MCAI in the AD docket on the internet at http://www.regulations.gov by searching for and locating Docket No. FAA-2019-0129.

Related Service Information Under 1 CFR Part 51

We reviewed B/E Aerospace Fischer Alert Service Bulletin (ASB) No. SB0718-004, Issue A, dated June 26, 2018. The ASB describes procedures for removing and replacing the EA assemblies on Common Seats 170/260 H160. This service information is reasonably available because the interested parties have access to it through their normal course of business or by the means identified in the ADDRESSES section.

FAA's Determination

This product has been approved by EASA and is approved for operation in the United States. Pursuant to our bilateral agreement with the European Community, EASA has notified us of the unsafe condition described in the MCAI and service information referenced above. We are proposing this AD because we evaluated all the relevant information provided by EASA and determined the unsafe condition described previously is likely to exist or develop in other products of the same type design.

Proposed AD Requirements

This proposed AD would require removing and replacing the EA assemblies on the affected common seats.

Costs of Compliance

We estimate that this proposed AD affects 341 common seats installed on aircraft of U.S. registry.

We estimate the following costs to comply with this proposed AD:

Estimated Costs
Action | Labor cost | Parts cost | Cost per product | Cost on U.S. operators
Inspect to determine if re-work has been accomplished | 0.2 work-hours × $85 per hour = $17 | $0 | $17 | $5,797
Replace EA Assembly | 3 work-hours × $85 per hour = $255 | 10,000 | 10,255 | 3,496,955

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

B/E Aerospace Fischer GmbH: Docket No. FAA-2019-0129; Product Identifier 2019-NE-01-AD.

(a) Comments Due Date

We must receive comments by May 24, 2019.

(b) Affected ADs

None.

(c) Applicability

(1) This AD applies to B/E Aerospace Fischer GmbH (B/E Aerospace Fischer) Common Seats 170/260 H160 with a part number and serial number combination listed in Annex A to B/E Aerospace Fischer Alert Service Bulletin (ASB) No. SB0718-004, Issue A, dated June 26, 2018.

(2) These seats are known to be installed on, but not limited to: Airbus Helicopters (formerly Airbus Helicopters Deutschland GmbH, Eurocopter Deutschland GmbH, Eurocopter España S.A.) EC135 and EC635 helicopters; and Airbus Helicopters (formerly Eurocopter, Eurocopter France, Aerospatiale) AS 332 L1 and EC 225 LP helicopters.

(d) Subject

Joint Aircraft System Component (JASC) Code 2510, Flight Compartment Equipment.

(e) Unsafe Condition

This AD was prompted by the discovery during testing that the energy absorber (EA) installed on certain B/E Aerospace Fischer Common Seats 170/260 H160 may not function as intended during emergency landing. We are issuing this AD to prevent malfunction of the EA on the seat. The unsafe condition, if not addressed, could result in injuries to the occupants during an emergency landing.

(f) Compliance

Comply with this AD within the compliance times specified, unless already done.

(g) Required Actions

Within 12 months or 1,000 flight hours, whichever occurs first, after the effective date of this AD:

(1) Review each affected B/E Aerospace Fischer Common Seat as identified by part number and serial number in Annex A of the B/E Aerospace Fischer ASB No. SB0718-004, Issue A, dated June 26, 2018 to determine if rework has already been performed. If the rework has been performed, the seat will be marked with a placard stating “SB0718-004A implemented” and no further action is required.

(2) Rework the affected seats in accordance with paragraphs 1 and 2 in B/E Aerospace Fischer ASB No. SB01718-004, Issue A, dated June 26, 2018. Once the rework is complete, mark the seat by installing a placard in accordance with paragraph 3 in B/E Aerospace Fischer ASB No. SB01718-004 except submittal of the reply form to B/E Aerospace Fischer is not required.

(h) Installation Prohibition

From the effective date of this AD, do not install any seat affected by this AD onto any aircraft unless the seat is marked with a placard stating completion of B/E Aerospace Fischer ASB No. SB0718-004, Issue A, dated June 26, 2018.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD.

(2) Before using any approved AMOC, notify your appropriate principal inspector, or lacking a principal inspector, the manager of the local flight standards district office/certificate holding district office.

(j) Related Information

(1) For more information about this AD, contact Dorie Resnik, Aerospace Engineer, Boston ACO Branch, FAA, 1200 District Avenue, Burlington, MA 01803; phone: 781-238-7693; fax: 781-238-7199; email: dorie.resnik@faa.gov.

(2) Refer to European Union Aviation Safety Agency (EASA) AD 2018-0223, dated October 17, 2018, for more information. You may examine the EASA AD in the AD docket on the internet at http://www.regulations.gov by searching for and locating it in Docket No. FAA-2019-0129.

(3) For service information identified in this AD, contact B/E Aerospace Fischer GmbH, Müller-Armack-Str. 4, D-84034 Landshut, Germany; phone: +49 (0) 871 93248-0; fax:+49 (0) 871 93248-22; email: spares@fischer-seats.de. You may view this referenced service information at the FAA, Engine and Propeller Standards Branch, 1200 District Avenue, Burlington, MA 01803. For information on the availability of this material at the FAA, call 781-238-7759.

Issued in Burlington, Massachusetts, on September 4, 2019.
Karen M. Grant,
Acting Manager, Engine and Propeller Standards Branch, Aircraft Certification Service.

[FR Doc. 2019-06985 Filed 4-8-19; 8:45 am]

BILLING CODE 4910-13-P